NATIONAL ARCHIVES AND RECORDS ADMINISTRATION

36 CFR Part 1228

RIN 3095-AA81

Agency Records Centers

AGENCY: National Archives and Records Administration (NARA).

ACTION: Correcting amendment.

SUMMARY: This document amends NARA's regulations related to the storage requirements for agency records, to correct language contained in final regulations that were published in the Federal Register of Thursday, December 2, 1999, (64 FR 67660).

DATES: Effective on July 24, 2008.

FOR FURTHER INFORMATION CONTACT: Jennifer Davis Heaps at 301-837-1850.

SUPPLEMENTARY INFORMATION:

Background

The final regulations that are the subject of this correction updated the standards that records center storage facilities must meet to store Federal records. The regulation applies to all Federal agencies, including NARA, that establish and operate records centers, and to agencies that contract for the services of commercial records storage facilities.

Need for Correction

As published, the final regulations contain an error in Appendix B that needs to be clarified. The introductory paragraph erroneously referred to a nonexistent paragraph o. and the correct designation was n.

List of Subjects in 36 CFR Part 1228

Archives and records.

Accordingly, 36 CFR part 1228 is corrected by making the following correcting amendments:

PART 1228—DISPOSITION OF FEDERAL RECORDS

1. The authority citation for part 1228 continues to read as follows:

Authority: 44 U.S.C. chs. 21, 29, and 33.

2. Revise the introductory sentence of paragraph 2 of Appendix B to Part 1228 to read:

Appendix B to Part 1228—Alternative Certified Fire-Safety Detection and Suppression System(s)

* * * * *

2. Specifications for NARA facilities using 15 foot high records storage. NARA fire-safety systems that incorporate all components specified in paragraphs 2.a. through n. of this appendix have been tested and certified to meet the requirements in § 1228.230(s) for an acceptable fire-safety detection and suppression system for storage of Federal records.

Dated: July 21, 2008.
Allen Weinstein,
Archivist of the United States.

[FR Doc. E8-17080 Filed 7-23-08; 8:45 am]

BILLING CODE 7515-01-P